DEPARTMENT OF LABOR

Employment and Training Administration

[TA-W-53,476]

Weidmann Systems International, Inc., St. Johnsbury, Vermont; Notice of Termination of Investigation

Pursuant to section 221 of the Trade Act of 1974, an investigation was initiated on November 7, 2003 in response to a worker petition which was filed on behalf of workers at Weidmann Systems International, Inc., St, Johnsbury, Vermont.

An active certification covering the petitioning group of workers is already in effect (TA-W-42,222A, as amended). Consequently, further investigation in this case would serve no purpose, and the investigation has been terminated.

Signed in Washington, DC this 25th day of November 2003.
Elliott S. Kushner,
Certifying Officer, Division of Trade Adjustment Assistance.

[FR Doc. 03-31984 Filed 12-30-03; 8:45 am]

BILLING CODE 4510-30-P